DEPARTMENT OF HEALTH AND HUMAN SERVICES

Indian Health Service

Health Professions Preparatory, Pregraduate, and Indian Health Professions Scholarship Programs

AGENCY: Indian Health Service, HHS.

ACTION: Update of Standing Notice of Availability of Funds for Health Professionals Preparatory, Pregraduate, and Indian Health Professions Scholarship Programs published in 62 FR 5443, February 5, 1997.

SUMMARY: The Indian Health Service (IHS) announces the availability of approximately $3,750,000 to fund scholarships for the for the Health Professions Preparatory and Pregraduate Scholarship Programs for FY 2000 awards. These programs are authorized by section 103 of the Indian Health Care Improvement Act (IHCIA), Pub.L. 94-437, as amended by Pub.L. 100-713, Pub.L. 102-573, and Pub.L. 104-313. The Indian Health Scholarship (Professions) authorized by section 104 of the IHCIA, Pub.L. 94-437, as amended by Pub.L. 100-713, Pub.L. 102-573, and Pub.L. 104-313, has approximately $7,895,000 available for FY 2000 awards.

Part-time and full-time scholarships will be funded for each of the three scholarships programs for the academic year 2000-2001.

The Health Professions Preparatory Scholarship Grant Program is listed as No. 93.123 in the Office of Management and Budget.

Catalog of Federal Domestic Assistance (CFDA). The Health Professions Pregraduate Scholarship Grant Program is listed as No. 93.971 and the Indian Health Professions Scholarship Grant Program is listed as No. 93.972 in the CFDA.

DATE: The application deadline for both new and continuing applicants is April 1, 2000. If April 1 falls on the weekend, the application will be due on the following Monday. Applications will be considered as meeting the deadline if they are received by the appropriate Scholarship Coordinator on the deadline date or postmarked on or before the deadline date. (Applicants should request a legibly dated U.S. Postal Service postmark or obtain a legibly dated receipt from a commercial carrier or U.S. Postal Service. Private metered postmarks will not be acceptable as proof of timely mailing.)

Applications: New applicants applying for scholarships under the three programs must use the forms contained in the “Application for Participation in the IHS Scholarship Program” (OMB No. 0917-0006, 04/30/2001). Application packets may be obtained by calling or writing to the addresses listed below.

FOR FURTHER INFORMATION CONTACT: Please address application inquiries to the appropriate Indian Health Service Area Scholarship Coordinator, as listed below.

IHS area office and States/locality served | Scholarship coordinator/address
Aberdeen Area IHS:
Iowa, Nebraska, North Dakota, South Dakota | Ms. Lila Jean Topalian, Scholarship Coordinator, Aberdeen Area IHS, Federal Building, Room 309, 115 4th Avenue, SE., Aberdeen, SD 57401, Tele: 602-226-7553.
Alaska Area IHS:
Alaska | Acting Scholarship Coordinator, Alaska Area IHS, 4141 Ambassador Drive, Rm. 349, Anchorage, Alaska 99508, Tele: 907-729-1332.
Albuquerque Area IHS:
Colorado, New Mexico | Ms. Alvina Waseta, Scholarship Coordinator, Albuquerque Area IHS, 5300 Homestead Road, NE, Albuquerque, NM 87110, Tele: 505-248-4513.
Bemidji Area IHS:
Illinois, Indiana, Michigan, Minnesota, Wisconsin | Ms. Barbara Fairbanks, Scholarship Coordinator, Bemidji Area IHS, 522 Minnesota Avenue, NW, Bemidji, MN 56601, Tele: 218-759-3350.
Billings Area IHS:
Montana, Wyoming | Mr. Sandy MacDonald, Scholarship Coordinator, Billings Area IHS, Area Personnel Office, P.O. Box 2143, 2900 4th Avenue, North, Billings, MT 59103, Tele: 406-247-7210.
California Area IHS:
California, Hawaii | Ms. Mona Celli, Scholarship Coordinator, California Area IHS, 1825 Bell Street, Suite 200, Sacramento, CA 95825, Tele: 916-566-7033.
Nashville Area IHS:
Alabama, Arkansas, Connecticut, Delaware, Florida, Georgia, Kentucky, Louisiana, Maine, Maryland, Massachusetts, Mississippi, New Hampshire, New Jersey, New York, North Carolina, Ohio, Pennsylvania, Rhode Island, South Carolina, Tennessee, Vermont, Virginia, West Virginia, District of Columbia | Mr. Jesse Thomas, Scholarship Coordinator, Nashville Area IHS, 711 Stewarts Ferry Pike, Nashville, TN 37214, Tele: 615-736-2436.
Navajo Area IHS:
Arizona, New Mexico, Utah | Ms. Roselinda Allison, Scholarship Coordinator, Navajo Area IHS, P.O. Box 9020, Window Rock, AZ 86515, Tele: 520-871-1422.
Oklahoma City Area IHS:
Kansas, Missouri, Oklahoma | Ms. Barbara Roy, Scholarship Coordinator, Oklahoma City Area IHS, Five Corporate Plaza, 3625 NW 56th Street, Oklahoma City, OK 73112, Tele: 405-951-3939.
Phoenix Area IHS:
Arizona, Nevada, Utah | Ms. Lena Fast Horse, Scholarship Coordinator, Phoenix Area IHS, Two Renaissance Square, 40 North Central Avenue, Suite #600, Phoenix, AZ 85004, Tele: 602-364-5220.
Portland Area IHS:
Idaho, Oregon, Washington | Ms. Darlene Marcellay, Scholarship Coordinator, Portland Area IHS, 1220 SW Third Avenue, Rm. 440, Portland, OR 97204-2892, Tele: 503-326-2015.
Tucson Area IHS:
Arizona, Texas | Mr. Cecil Escalante, Scholarship Coordinator, Tucson Area IHS, 7900 South J. Stock Road, Tucson, AZ 85746, Tele: 520-295-2441.

Other programmatic inquiries may be addressed to Ms. Rose Jerue, Chief, Scholarship Branch, Indian Health Service, Twinbrook Metro Plaza, Suite 100, 12300 Twinbrook Parkway, Rockville, Maryland, 20852; Telephone 301-443-6197. (This is not a toll free number.) For grants information, contact Ms. Margaret Griffiths, Acting Grants Scholarship Coordinator, Grants Management Branch, Division of Acquisition and Grants Operations, Indian Health Services, Room 100, 12300 Twinbrook Parkway, Rockville, Maryland, 20852; Telephone 301-443-0243. (This is not a toll-free number.)

SUPPLEMENTARY INFORMATION: An addition to the list of priority health professionals for Indian Health Scholarships (Professions) that was published in 62 FR 5443, February 5, 1997, is Coding Specialist-Certificate.

Deletions from the list of priority health professions for Indian Health Scholarships (Professions) that was published in 62 FR 5443, February 5, 1997, are Accounting (B.S.), Business Administration (B.S., M.B.A.), and Computer Science (B.S.).

A deletion from the list of priority career categories for Health Professions Preparatory scholarships is Pre-Accounting.

Dated: January 13, 2000.
Michel E. Lincoln,
Deputy Director.

[FR Doc. 00-1403 Filed 1-20-00; 8:45 am]

BILLING CODE 4160-16-M